DEPARTMENT OF TRANSPORTATION

Federal Aviation Administration

14 CFR Part 39

[Docket No. 2001-NM-145-AD; Amendment 39-12422; AD 98-24-02 R1]

RIN 2120-AA64

Airworthiness Directives; McDonnell Douglas Model MD-11 Series Airplanes

AGENCY: Federal Aviation Administration, DOT.

ACTION: Final rule.

SUMMARY: This amendment revises an existing airworthiness directive (AD), applicable to certain McDonnell Douglas Model MD-11 series airplanes, that requires a one-time inspection to identify the part numbers of two dimmer controls for the overhead instrument panel light and circuit breaker lightplate located in the flight compartment. For airplanes on which a dimmer control having an incorrect part number is installed, that AD also requires replacing the dimmer control with a new part; modifying and reinstalling the existing dimmer control; or reinstalling a dimmer control following modification of the part by the part manufacturer. That AD was prompted by reports of smoke emitting from the overhead panels in the cockpit area. The actions specified by that AD are intended to prevent an electrical failure in the overhead dimmer control due to overheating of a printed circuit board capacitor in the dimmer control, which could result in rupture of the capacitor and smoke in the flight compartment. This amendment revises the term “serial numbers” in the applicability statement to “fuselage numbers.”

DATES: Effective October 3, 2001.

The incorporation by reference of certain publications listed in the regulations was approved previously by the Director of the Federal Register as of November 30, 1998 (63 FR 63402, November 13, 1998).

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) by revising AD 98-24-02, amendment 39-10889 (63 FR 63402, November 13, 1998), which is applicable to certain McDonnell Douglas Model MD-11 series airplanes, was published in the Federal Register on June 11, 2001 (66 FR 31194). The action proposed to continue to require a one-time inspection to identify the part numbers of two dimmer controls for the overhead instrument panel light and circuit breaker lightplate located in the flight compartment. For airplanes on which a dimmer control having an incorrect part number is installed, the action also proposed to continue to require replacing the dimmer control with a new part; modifying and reinstalling the existing dimmer control; or reinstalling a dimmer control following modification of the part by the part manufacturer. The action also proposed to revise the term “serial numbers” in the applicability statement to “fuselage numbers.”

Comments

Interested persons have been afforded an opportunity to participate in the making of this amendment. Due consideration has been given to the single comment received.

The commenter has no objection to the proposed revision.

Conclusion

After careful review of the available data, including the comment noted above, the FAA has determined that air safety and the public interest require the adoption of the rule as proposed.

Cost Impact

There are approximately 174 Model MD-11 series airplanes of the affected design in the worldwide fleet. The FAA estimates that 65 airplanes of U.S. registry will be affected by this AD, that it will take approximately 1 work hour per airplane to accomplish the required actions, and that the average labor rate is $60 per work hour. Based on these figures, the cost impact of the AD on U.S. operators is estimated to be $3,900, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10889 (63 FR 63402, November 13, 1998), and by adding a new airworthiness directive (AD), amendment 39-12422, to read as follows:

98-24-02 R1 McDonnell Douglas: Amendment 39-12422. Docket 2001-NM-145-AD. Revises AD 98-24-02, Amendment 39-10889.

Applicability: Model MD-11 series airplanes, fuselage numbers 447 through 597 inclusive; certificate in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent an electrical failure in the dimmer control for the overhead instrument panel light and circuit breaker lightplate due to overheating of a printed circuit board (PCB) capacitor in the dimmer control, which could result in rupture of the capacitor and smoke in the flight compartment, accomplish the following:

Inspection and Corrective Action, If Necessary

(a) Within 30 days after November 30, 1998 (the effective date of AD 98-24-02, amendment 39-10889), perform a one-time visual inspection of the two dimmer controls for the overhead instrument panel light and circuit breaker lightplate located in the flight compartment to identify the part numbers of the dimmer controls.

(1) If all dimmer controls are identified as part number (P/N) 263-2, no further action is required by this AD.

(2) If any dimmer control is identified as P/N 263-1, within 30 days after accomplishing the inspection specified by paragraph (a) of this AD, accomplish the actions required by paragraph (a)(2)(i), (a)(2)(ii), or (a)(2)(iii) of this AD, in accordance with McDonnell Douglas Service Bulletin MD11-33-045, dated June 14, 1995.

(i) Replace any dimmer control, P/N 263-1, with a new dimmer control, P/N 263-2. Or

(ii) Modify any dimmer control, P/N 263-1, and reinstall the modified and reidentified dimmer control in the flight compartment. Or

(iii) Remove any dimmer control, P/N 263-1; return it for modification and reidentification to Olin Aerospace Company, 11441 Willows Road NE, Redmond, Washington 98073-9745; and reinstall the modified and reidentified dimmer control in the flight compartment.

Spares

(b) As of November 30, 1998, no person shall install on any McDonnell Douglas Model MD-11 series airplane, a dimmer control, P/N 263-1, unless that dimmer control has been modified and reidentified to P/N 263-2 in accordance with McDonnell Douglas Service Bulletin MD11-33-045, dated June 14, 1995.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 2: Information concerning the existence of approved alternative methods of compliance with this AD, if any, may be obtained from the Manager, Los Angeles ACO.

Special Flight Permits

(d) Special flight permits may be issued in accordance with §§ 21.197 and 21.199 of the Federal Aviation Regulations (14 CFR 21.197 and 21.199) to operate the airplane to a location where the requirements of this AD can be accomplished.

Incorporation by Reference

(e) Except as provided by paragraph (a) of this AD, the actions shall be done in accordance with McDonnell Douglas Service Bulletin MD11-33-045, dated June 14, 1995. The incorporation by reference of this document was approved previously by the Director of the Federal Register as of November 30, 1998 (63 FR 63402, November 13, 1998). Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on October 3, 2001.

Issued in Renton, Washington, on August 22, 2001.
Ali Bahrami,
Acting Manager, Transport Airplane Directorate, Aircraft Certification Service.

[FR Doc. 01-21746 Filed 8-28-01; 8:45 am]

BILLING CODE 4910-13-P